FEDERAL TRADE COMMISSION

Granting of Requests for Early Termination of the Waiting Period Under the Premerger Notification Rules

Section 7A of the Clayton Act, 15 U.S.C. 18a, as added by Title II of the Hart-Scott- Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted April 1, 2019 Thru April 30, 2019
04/02/2019
20190942 | G | AIF IX (PMC Equity AIV), L.P.; Brian W. Brady; AIF IX (PMC Equity AIV), L.P.
20190974 | G | Starboard Value and Opportunity Fund Ltd.; Zayo Group Holdings, Inc.; Starboard Value and Opportunity Fund Ltd.
20191000 | G | General Electric Company; GE Aero Power LLC; General Electric Company.
20191001 | G | Baker Hughes, a GE company; GE Aero Power LLC; Baker Hughes, a GE company.
20191002 | G | Topco; Pure Power Technologies, LLC; Topco.
20191011 | G | LeBaronBrown Industries LLC; Aceto Corporation; LeBaronBrown Industries LLC.
20191020 | G | Levine Leichtman Capital Partners VI, L.P.; Northlane Capital Partners I, LP; Levine Leichtman Capital Partners VI, L.P.
20191023 | G | Performance Food Group Company; Thomas G. Wake; Performance Food Group Company.
20191024 | G | Performance Food Group Company; Richard W. Wake; Performance Food Group Company.
20191027 | G | Nippon Telegraph and Telephone Corporation; WhiteHat Security, Inc.; Nippon Telegraph and Telephone Corporation.
20191032 | G | Peak Rock Capital Fund II LP; The Kroger Co.; Peak Rock Capital Fund II LP.
20191033 | G | Envestnet, Inc.; Robert D. Curtis & Karla B. Curtis; Envestnet, Inc.
20191034 | G | Robert D. Curtis & Karla B. Curtis; Envestnet, Inc.; Robert D. Curtis & Karla B. Curtis.
20191035 | G | RCP Vega Co-Invest, L.P.; Providence Equity Partners VI L.P.; RCP Vega Co-Invest, L.P.
20191036 | G | Biohaven Pharmaceutical Holding Co. Ltd.; GW Pharmaceuticals plc; Biohaven Pharmaceutical Holding Co. Ltd.
20191037 | G | TPG VIII DE AIV II, L.P.; Goodnight Water Solutions, LLC; TPG VIII DE AIV II, L.P.
20191043 | G | Equitrans Midstream Corporation; North Haven Infrastructure Partners II AIV-I L.P.; Equitrans Midstream Corporation.
20191044 | G | William G. Davis; SED Holdings, LLC; William G. Davis.
20191045 | G | Atlas Capital Resources III LP; International Wire Group Holdings, Inc.; Atlas Capital Resources III LP.
20191049 | G | TCV IX, L.P.; Peloton Interactive, Inc.; TCV IX, L.P.
20191051 | G | Hiroshi Mikitani; Rakuten Medical, Inc.; Hiroshi Mikitani.
20191055 | G | Educational Media Foundation; Cumulus Media Inc.; Educational Media Foundation.
04/04/2019
20191007 | G | BB&T Corporation; SunTrust Banks, Inc.; BB&T Corporation
04/08/2019
20191059 | G | CJP TC Holdings, L.P.; Mr. Naoyuki Soga; CJP TC Holdings, L.P.
20191060 | G | Green Equity Investors Side VII, L.P.; Wrench Ultimate Holdings, Inc.; Green Equity Investors Side VII, L.P.
20191061 | G | One Equity Partners VII, L.P.; Melrose Industries PLC; One Equity Partners VII, L.P.
20191062 | G | Thomas Milton Duff; Bridgestone Corporation; Thomas Milton Duff.
20191063 | G | James Ernest Duff and Sherry G. Duff; Bridgestone Corporation; James Ernest Duff and Sherry G. Duff.
20191064 | G | YS Topco Limited; Jim Kim; YS Topco Limited.
20191068 | G | NFP Ultimate Holdings, LLC; Sir Evelyn de Rothschild; NFP Ultimate Holdings, LLC.
20191069 | G | NFP Ultimate Holdings, LLC; Matthew Bronfman; NFP Ultimate Holdings, LLC.
20191070 | G | Madison Dearborn Capital Partners VI-A, L.P.; BioScrip, Inc.; Madison Dearborn Capital Partners VI-A, L.P.
20191072 | G | Murray Energy Holdings Co.; Mission Coal Company, LLC; Murray Energy Holdings Co.
20191076 | G | One Rock Capital Partners II, LP; Newell Brands Inc.; One Rock Capital Partners II, LP.
20191077 | G | DP World PLC; Hyperloop Technologies, Inc.; DP World PLC.
20191078 | G | BlackRock, Inc.; Bridgepoint Europe IV 2 FCPR; BlackRock, Inc.
20191079 | G | TCV X L.P.; K3 Private Investors, L.P.; TCV X L.P.
20191086 | G | Lear Corporation; Xevo Inc.; Lear Corporation.
04/10/2019
20190989 | G | MasterCard Incorporated; Trans-Fast Remittance LLC; MasterCard Incorporated.
20191031 | G | Roper Technologies, Inc.; The Foundry Topco No. 2 Limited; Roper Technologies, Inc.
20191084 | G | Genstar Capital Partners VI, L.P.; Joseph M. Brodner; Genstar Capital Partners VI, L.P.
20191085 | G | Genstar Capital Partners VI, L.P.; John R. Brodner and Leslie C. Brodner; Genstar Capital Partners VI, L.P.
04/11/2019
20190998 | G | MasterCard Incorporated; Ethoca Solutions Inc.; MasterCard Incorporated.
04/15/2019
20191053 | G | OpCapita Consumer Opportunities Fund II, L.P.; Ascena Retail Group, Inc.; OpCapita Consumer Opportunities Fund II, L.P.
20191094 | G | Church & Dwight Co., Inc.; Anand Khubani; Church & Dwight Co., Inc.
20191096 | G | TCV X L.P.; Toast, Inc.; TCV X L.P.
20191099 | G | Madison Dearborn Capital Partners VII-A, L.P.; InMoment, Inc.; Madison Dearborn Capital Partners VII-A, L.P.
20191100 | G | The E.W. Scripps Company; Nexstar Media Group, lnc.; The E.W. Scripps Company.
20191104 | G | Koninklijke Philips N.V.; Onex Partners II LP; Koninklijke Philips N.V.
20191106 | G | Berwind Holding Corp.; Harbour Group Investments VI, L.P.; Berwind Holding Corp.
20191107 | G | Great Hill Equity Partners VI, L.P.; Customink, LLC; Great Hill Equity Partners VI, L.P.
20191108 | G | The IDEAL Industries, Inc. Voting Trust; Cree, Inc.; The IDEAL Industries, Inc. Voting Trust.
20191109 | G | SJW Group; Connecticut Water Service, Inc.; SJW Group.
20191110 | G | Progress Software Corporation; Roger Greene; Progress Software Corporation.
20191111 | G | Wingtech Technology Co., Ltd.; Hefei Yuxin Holding Co. Ltd.; Wingtech Technology Co., Ltd.
20191113 | G | Thunder Bridge Acquisition LLC; Corsair IV Payment Holdings Investors L.P.; Thunder Bridge Acquisition LLC.
20191118 | G | Gridiron Capital Fund III, L.P.; LaMi Holdings, LLC; Gridiron Capital Fund III, L.P.
20191119 | G | Bain Capital Europe Fund V, SCSp; Maesa Expansion SAS; Bain Capital Europe Fund V, SCSp.
20191121 | G | Accenture plc; David Droga; Accenture plc.
20191126 | G | Jones Lang LaSalle Incorporated; HFF, Inc.; Jones Lang LaSalle Incorporated.
20191128 | G | Pamlico Capital IV, L.P.; BNI Holdings, LLC; Pamlico Capital IV, L.P.
04/16/2019
20191129 | G | TPG VIII DE AIV II, L.P.; GEP Administrative Services, Inc. ESO Trust; TPG VIII DE AIV II, L.P.
20191132 | G | Stichting Administratiekantoor Westend; Meow Wolf, Inc.; Stichting Administratiekantoor Westend.
04/17/2019
20191047 | G | BG LLH, LLC; Fenway Partners Capital Fund III, L.P.; BG LLH, LLC.
20191048 | G | Blucora, Inc.; Stephen A. Batman; Blucora, Inc.
04/19/2019
20191039 | G | Barrick Gold Corporation; JV Company; Barrick Gold Corporation.
20191091 | G | Rockwell Automation, Inc.; Sensia U.S.; Rockwell Automation, Inc.
20191112 | G | Joyvio Agricultural Development Co., Ltd.; Isidoro Ernesto Quiroga Moreno; Joyvio Agricultural Development Co., Ltd.
20191114 | G | Knighthead Offshore Fund, Ltd.; PG&E Corporation; Knighthead Offshore Fund, Ltd.
20191120 | G | Stonepeak Infrastucture Fund III (AIV I) LP; Oryx Midstream Services LLC; Stonepeak Infrastucture Fund III (AIV I) LP.
20191122 | G | Stonepeak Infrastucture Fund III (AIV I) LP; Oryx Midstream Services II, LLC; Stonepeak Infrastucture Fund III (AIV I) LP.
20191127 | G | Christopher Hutter; Hannibal Industries, Inc.; Christopher Hutter.
20191130 | G | Thomas Flohr; Clearlake Capital Partners IV, L.P.; Thomas Flohr.
20191131 | G | Madison Dearborn Capital Partners VII-B, L.P.; Robert E. McCarthy and Judith T. McCarthy; Madison Dearborn Capital Partners VII-B, L.P.
20191133 | G | Naspers Limited; Udemy, Inc.; Naspers Limited.
20191135 | G | Paul Douglass; Hannibal Industries, Inc.; Paul Douglass.
20191138 | G | AEA Investors Fund VI AIV LP; JFL Equity Investors IV, L.P.; AEA Investors Fund VI AIV LP.
20191139 | G | Stanley C. Middleman; The J.G. Wentworth Company; Stanley C. Middleman.
20191141 | G | Francisco Partners V, L.P.; Warburg Pincus Private Equity XI, L.P.; Francisco Partners V, L.P.
20191142 | G | The Baring Asia Private Equity Fund VII, L.P.; NIIT Technologies Limited; The Baring Asia Private Equity Fund VII, L.P.
20191144 | G | Lighthouse Holdings, Inc.; Spire Capital Partners III, L.P.; Lighthouse Holdings, Inc.
20191145 | G | Encompass Health Corporation; Alacare Home Health Services, Inc.; Encompass Health Corporation.
20191146 | G | Nordic Capital VIII Beta, L.P.; Timothy Jenison; Nordic Capital VIII Beta, L.P.
20191148 | G | KKR Special Situations (EEA) Fund II, L.P.; Gibson Brands, Inc.; KKR Special Situations (EEA) Fund II, L.P.
20191149 | G | Cove Hill Partners Fund I, L.P.; Bessemer Venture Partners VIII Institutional L.P.; Cove Hill Partners Fund I, L.P.
20191152 | G | American Family Insurance Mutual Holding Company; Ameriprise Financial, Inc.; American Family Insurance Mutual Holding Company.
20191159 | G | MTY Food Group Inc.; Papa Murphy's Holdings, Inc.; MTY Food Group Inc.
04/22/2019
20191134 | G | FUJIFILM Holdings Corporation; Biogen Inc.; FUJIFILM Holdings Corporation.
20191136 | G | ON Semiconductor Corporation; Quantenna Communications, Inc.; ON Semiconductor Corporation.
20191158 | G | Clearlake Capital Partners V, L.P.; Alert Holding Company, Inc.; Clearlake Capital Partners V, L.P.
04/23/2019
20191095 | G | National Grid plc; Geronimo Energy Holdings, LLC; National Grid plc.
20191098 | G | National Grid plc; Emerald Energy Venture, LLC; National Grid plc.
04/24/2019
20191097 | G | Pilot Corporation; RBJ & Associates, L.P.; Pilot Corporation.
20191153 | G | Giovanni Ferrero; Kellogg Company; Giovanni Ferrero.
20191157 | G | Omni Investor Holdings, LLC; Michael & Kathleen Entzminger; Omni Investor Holdings, LLC.
04/26/2019
20191071 | G | Fidelity National Information Services, Inc.; Worldpay, Inc.; Fidelity National Information Services, Inc.
20191161 | G | CrossAmerica Partners LP; Alimentation Couche-Tard Inc.; CrossAmerica Partners LP.
20191168 | G | Connect Topco Limited; Inmarsat plc; Connect Topco Limited.
20191169 | G | Duffle Series, L.P.; C-III Capital Partners LLC; Duffle Series, L.P.
04/29/2019
20191101 | G | Thermo Fisher Scientific Inc.; Ampersand 2014 Limited Partnership; Thermo Fisher Scientific Inc.
20191181 | G | Arbor Investments IV, L.P.; Block Note, Inc.; Arbor Investments IV, L.P.
20191182 | G | CCP III AIV VI, L.P.; International Business Machines Corporation; CCP III AIV VI, L.P.
20191184 | G | Olympus Growth Fund VII, L.P.; 3D Holdings, Inc.; Olympus Growth Fund VII, L.P.
20191186 | G | Willis Towers Watson plc; Clayton, Dubilier & Rice Fund IX, L.P.; Willis Towers Watson plc.
20191188 | G | Clayton Dubilier & Rice Fund IX, L.P.; Willis Towers Watson plc; Clayton Dubilier & Rice Fund IX, L.P.
20191190 | G | Capitol Investment Corp. IV; NESCO Holdings, LP; Capitol Investment Corp. IV.
20191191 | G | Qorvo, Inc.; Active-Semi International Inc.; Qorvo, Inc.
20191194 | G | Lyndon Lea; AP VIII CEC Holdings, L.P.; Lyndon Lea.
20191195 | G | Robert Darwent; AP VIII CEC Holdings, L.P.; Robert Darwent.
20191196 | G | SoftBank Vision Fund (AIV M2) L.P.; Doordash, Inc.; SoftBank Vision Fund (AIV M2) L.P.
04/30/2019
20191192 | G | LEP Realization Feeder, L.P.; Captive Resources Holding Company, LLC; LEP Realization Feeder, L.P.
20191202 | G | Genstar Capital Partners VII, L.P.; Mr. and Mrs. Joseph Schneerson; Genstar Capital Partners VII, L.P.

FOR FURTHER INFORMATION CONTACT: Theresa Kingsberry, Program Support Specialist, Federal Trade Commission Premerger Notification Office, Bureau of Competition, Room CC-5301, Washington, DC 20024, (202) 326-3100.

By direction of the Commission.
April Tabor,
Acting Secretary.

[FR Doc. 2019-09815 Filed 5-10-19; 8:45 am]

BILLING CODE 6750-01-P